DEPARTMENT OF LABOR

Mine Safety and Health Administration

Fees for Testing, Evaluation, and Approval of Mining Products

AGENCY: Mine Safety and Health Administration, Labor.

ACTION: Notice.

SUMMARY: The Mine Safety and Health Administration (MSHA) is using new authority to collect fees for services performed under 30 CFR parts 6 through 36. Section 1503 of the Consolidated and Further Continuing Appropriations Act of 2013 (Pub. L. 113-6) contains new authority for 30 CFR part 5, Fees for testing, evaluation, and approval of mining products; it allows MSHA to collect fees up to $2,499,000 for the testing, evaluation, and approval of certain mining equipment. MSHA is continuing to collect these fees for 2013 as calculated according to existing 30 CFR part 5.

FOR FURTHER INFORMATION CONTACT: George F. Triebsch, Director, Office of Standards, Regulations, and Variances, MSHA, at triebsch.george@dol.gov (email); 202-693-9440 (voice); or 202-693-9441 (facsimile). (These are not toll-free numbers.)

Dated: May 16, 2013.
Joseph A. Main,
Assistant Secretary of Labor for Mine Safety and Health.

[FR Doc. 2013-12078 Filed 5-17-13; 11:15 am]

BILLING CODE 4510-43-P